OVERSEAS PRIVATE INVESTMENT CORPORATION

[OPIC-258, OMB 3420-xxxx]

Submission for OMB Review; Comments Request

AGENCY: Overseas Private Investment Corporation (OPIC).

ACTION: Notice and request for comments.

SUMMARY: Under the provisions of the Paperwork Reduction Act (44 U.S.C. Chapter 35), agencies are required to publish a Notice in the Federal Register notifying the public that the agency is creating a new information collection for OMB review and approval and requests public review and comment on the submission. Comments are being solicited on the need for the information; the accuracy of OPIC's burden estimate; the quality, practical utility, and clarity of the information to be collected; and ways to minimize reporting the burden, including automated collected techniques and uses of other forms of technology.

DATES: Comments must be received within sixty (60) calendar days of publication of this Notice.

ADDRESSES: Mail all comments and requests for copies of the subject form to OPIC's Agency Submitting Officer: James Bobbitt, Overseas Private Investment Corporation, 1100 New York Avenue NW., Washington, DC 20527. See SUPPLEMENTARY INFORMATION for other information about filing.

FOR FURTHER INFORMATION CONTACT: OPIC Agency Submitting Officer: James Bobbitt, (202)336-8558.

SUPPLEMENTARY INFORMATION: All mailed comments and requests for copies of the subject form should include form number [OPIC-258] on both the envelope and in the subject line of the letter. Electronic comments and requests for copies of the subject form may be sent to James.Bobbitt@opic.gov, subject line [OPIC-258].

SUMMARY FORM UNDER REVIEW

Type of Request: New information collection.

Title: Customer Satisfaction Survey.

Form Number: OPIC-258.

Frequency of Use: One per investor per project per year.

Type of Respondents: Business, other institutions, individuals.

Standard Industrial Classification Codes: All.

Description of Affected Public: U.S. companies or citizens with significant involvement in OPIC projects.

Reporting Hours: 558*0.333 = 186 hours.

Number of Responses: 558 per year, based on OPIC's portfolio as of 9/30/2015.

Federal Cost: $9,694.

Authority for Information Collection: Sections 231 and 239(d) of the Foreign Assistance Act of 1961, as amended.

Abstract (Needs and Uses): The Customer Satisfaction Survey is the survey tool used by OPIC to assess the overall working experience of clients and partners doing business with OPIC. It is used to collect data and suggestions to improve customer services to provide debt financing, insurance and investment funds for overseas businesses. OPIC's mandate is to catalyze private capital for sustainable economic development, to advance U.S. foreign policy and development goals abroad.

Dated: February 11, 2016.
Nichole Skoyles,
Administrative Counsel, Department of Legal Affairs.

[FR Doc. 2016-03420 Filed 2-17-16; 8:45 am]

BILLING CODE 3210-01-P